DEPARTMENT OF COMMERCE

Foreign-Trade Zones Board

[B-34-2016]

Foreign-Trade Zone (FTZ) 121—Albany, New York; Notification of Proposed Production Activity; Townsend Leather Company, Inc., (Finished Upholstery Grade Leather, Cut Parts and Product Samples); Johnstown, New York

The Capital District Regional Planning Commission, grantee of FTZ 121, submitted a notification of proposed production activity to the FTZ Board on behalf of Townsend Leather Company, Inc. (Townsend), located in Johnstown, New York. The notification conforming to the requirements of the regulations of the FTZ Board (15 CFR 400.22) was received on May 9, 2016.

The Townsend facility is located within Site 7 of FTZ 121. The facility is used to produce finished upholstery grade leather, cut parts and product samples. The products are used in aviation/motor vehicle/yacht interiors, interior design and fashion accessories. Pursuant to 15 CFR 400.14(b), FTZ activity would be limited to the specific foreign-status material and specific finished products described in the submitted notification (as described below) and subsequently authorized by the FTZ Board.

Production under FTZ procedures could exempt Townsend from customs duty payments on the foreign-status components used in export production. On its domestic sales, Townsend would be able to choose the duty rates during customs entry procedures that apply to finished upholstery grade leather, cut parts and product samples (duty rates range from free to 2.9%) for the foreign-status upholstery grade pearl crust leather hides (duty rate, 2.8%). Customs duties also could possibly be deferred or reduced on foreign-status production equipment.

Public comment is invited from interested parties. Submissions shall be addressed to the FTZ Board's Executive Secretary at the address below. The closing period for their receipt is June 27, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: May 10, 2016.
Andrew McGilvray,
Executive Secretary.

[FR Doc. 2016-11549 Filed 5-16-16; 8:45 am]

BILLING CODE 3510-DS-P